DEPARTMENT OF COMMERCE

Patent and Trademark Office

[Docket No. PTO-P-2007-0021]

Grant of Interim Extension of the Term of U.S. Patent No. 4,927,855; NUVIGIL(TM) (armodafinil)

AGENCY: United States Patent and Trademark Office, Commerce.

ACTION: Notice of interim patent term extension.

SUMMARY: The United States Patent and Trademark Office has issued an order granting interim extension under 35 U.S.C. 156(d)(5) for a one-year interim extension of the term of U.S. Patent No. 4,927,855.

FOR FURTHER INFORMATION CONTACT: Mary C. Till by telephone at (571) 272-7755; by mail marked to her attention and addressed to the Commissioner for Patents, Mail Stop Hatch-Waxman PTE., P.O. Box 1450, Alexandria, VA 22313-1450; by fax marked to her attention at (571) 273-7755, or by e-mail to Mary.Till@uspto.gov.

SUPPLEMENTARY INFORMATION: Section 156 of Title 35, United States Code, generally provides that the term of a patent may be extended for a period of up to five years if the patent claims a product, or a method of making or using a product, that has been subject to certain defined regulatory review, and that the patent may be extended for interim periods of up to a year if the regulatory review is anticipated to extend beyond the expiration date of the patent.

On May 7, 2007, Cephalon, Inc., an agent of Laboratoire L. Lafon, the owner of record in the United States Patent and Trademark Office of U.S. Patent No. 4,927,855, timely filed an application under 35 U.S.C. 156(d)(5) for an interim extension of the term of U.S. Patent No. 4,927,855. The patent claims the human drug product NUVIGIL(TM) (armodafinil) and a method of said product. The application indicates, and the Food and Drug Administration has confirmed, that a new drug application (NDA 21-875) for the human drug product NUVIGIL(TM) (armodafinil) has been filed and is currently undergoing regulatory review before the Food and Drug Administration for permission to market or use the product commercially.

Review of the application indicates that, except for permission to market or use the product commercially, the subject patent would be eligible for an extension of the patent term under 35 U.S.C. 156, and that the patent should be extended for one year as required by 35 U.S.C. 156(d)(5)(B). Because it is apparent that the regulatory review period will continue beyond the original expiration date of the patent (May 22, 2007), interim extension of the patent term under 35 U.S.C. 156(d)(5) is appropriate.

An interim extension under 35 U.S.C. 156(d)(5) of the term of U.S. Patent No. 4,927,855 is granted for a period of one year from the expiration date of the patent, i.e., until May 22, 2008.

Dated: May 18, 2007.
Jon W. Dudas,
Under Secretary of Commerce for Intellectual Property and Director of the United States Patent and Trademark Office.

[FR Doc. E7-10084 Filed 5-23-07; 8:45 am]

BILLING CODE 3510-16-P